ENVIRONMENTAL PROTECTION AGENCY

40 CFR Parts 152 and 158

[OPP-2004-0387; FRL-7716-4]

RIN 2070-AC12

Pesticides: Data Requirements for Conventional Chemicals; Extension of Comment Period

AGENCY: Environmental Protection Agency (EPA).

ACTION: Proposed rule; extension of comment period.

SUMMARY: EPA issued a proposed rule in the Federal Register on March 11, 2005, titled “Pesticides; Data Requirements for Conventional Chemicals.” This notice extends the closing date of the comment period announced in that notice by 90 days, from June 9, 2005, to September 7, 2005.

DATES: Comments, identified by the docket identification number OPP-2004-0387, must be received on or before September 7, 2005.

ADDRESSES: Follow the detailed instructions as provided under ADDRESSES in the Federal Register document of March 11, 2005.

FOR FURTHER INFORMATION CONTACT: Vera Au, Field and External Affairs Division (FEAD), (7506C), Office of Pesticide Programs, Environmental Protection Agency, 1200 Pennsylvania Ave., NW., Washington, DC 20460-0001; telephone number: (703) 308-9069; fax number: (703) 305-5884; e-mail address: au.vera@epa.gov.

SUPPLEMENTARY INFORMATION:

I. General Information

A. Does this Action Apply to Me?

The Agency included in the proposed rule a list of those who may be potentially affected by this action. If you have questions regarding the applicability of this action to a particular entity, consult the person listed under the FOR FURTHER INFORMATION CONTACT.

B. How Can I Access Electronic Copies of this Document and Other Related Information?

In addition to using EDOCKET (http://www.epa.gov/edocket/), you may access this Federal Register document electronically through the EPA Internet under the “Federal Register” listings at http://www.epa.gov/fedrgstr/. A frequently updated electronic version of 40 CFR parts 152 and 158 is available at E-CFR Beta Site Two at http://www.gpoaccess.gov/ecfr/.

II. What Action is EPA taking?

In the Federal Register of March 11, 2005 (40 FR 12275), EPA issued a proposed rule to update its pesticide data requirements for conventional pesticide chemicals. This document extends the public comment period for that proposed rule. EPA received requests to extend the comment period by 90 days from four industry organizations: CropLife America (CLA), the Biocides Panel of the American Chemistry Council (ACC), the Consumer Specialty Products Association (CPSA), and the Chemical Producers and Distributors Association (CPDA). All four groups requested that EPA extend the comment period because of the length of the proposed rule and the complex legal, scientific, and policy issues in the rule.

The requesters also cited a desire for more outreach by EPA on the contents of the proposal. EPA has already provided numerous opportunities for the public to inform itself about the provisions of the proposed rule. Of particular note, EPA conducted a two-day public workshop on the proposed rule on May 3 - 4, 2005. EPA also met individually with CLA members on two occasions and provided an overview of the proposed rule at a workshop sponsored by CPDA on May 4, 2005. Thus, EPA believes that the extensive outreach activities with stakeholders to date are sufficient for the purpose and scope of this particular rulemaking.

To allow stakeholders additional time to assess the impact of the proposed revisions on their particular situations and prepare their comments, EPA is extending the comment period by an additional 90 days. The comment period, which was set to end on June 9, 2005, will now end on September 7, 2005.

III. Do Any Statutory and Executive Order Reviews Apply to this Action?

No. This action is not a rulemaking, it merely extends the date by which public comments on a proposed rule must be submitted to EPA on a proposed rule that previously published in the Federal Register of March 11, 2005 (70 FR 12275).

List of Subjects in 40 CFR Parts 152 and 158

Administrative practice and procedure, Agricultural commodities, Environmental protection, Pesticides and pests, Reporting and recordkeeping requirements.

Dated: June 1, 2005.
Susan B. Hazen,
Acting Assistant Administrator, Office of Prevention, Pesticides, and Toxic Subtances.

[FR Doc. 05-11276 Filed 6-7-05; 8:45 am]

BILLING CODE 6560-50-S